OFFICE OF GOVERNMENT ETHICS

Privacy Act of 1974; Systems of Records

AGENCY: Office of Government Ethics (OGE).

ACTION: Notice of a modified system of records.

SUMMARY: OGE proposes to revise an existing Governmentwide system of records under the Privacy Act, covering Executive Branch Confidential Financial Disclosure Reports.

DATES: This action will be effective without further notice on November 8, 2019 unless comments received before this date would result in a contrary determination.

ADDRESSES: Comments may be submitted to OGE by any of the following methods:

Email: usoge@oge.gov (Include reference to “OGE/GOVT-2” in the subject line of the message.)

Mail, Hand Delivery/Courier: Office of Government Ethics, 1201 New York Avenue NW, Suite 500, Attention: Jennifer Matis, Associate Counsel, Washington, DC 20005-3917.

Instructions: Comments may be posted on OGE's website, www.oge.gov. Sensitive personal information, such as account numbers or Social Security numbers, should not be included. Comments generally will not be edited to remove any identifying or contact information before posting.

FOR FURTHER INFORMATION CONTACT: Jennifer Matis at the U.S. Office of Government Ethics; telephone: 202-482-9216; TTY: 800-877-8339; FAX: 202-482-9237; Email: jmatis@oge.gov.

SUPPLEMENTARY INFORMATION: In accordance with the Privacy Act of 1974, 5 U.S.C. 552a, this document provides public notice that OGE is proposing to revise and update the OGE/GOVT-2 Governmentwide system of records in several respects. A Governmentwide system of records is a system of records where one agency (in this case, OGE) has regulatory authority over records in the custody of multiple agencies and the agency with regulatory authority publishes a SORN that applies to all of the records regardless of their custodial location.

OGE proposes to add two new routine uses as required by OMB Memorandum “Preparing for and Responding to a Breach of Personally Identifiable Information,” M-17-12, (January 3, 2017). These new routine uses allow agencies to disclose information when necessary to respond to a suspected or confirmed breach or to prevent, minimize, or remedy harm resulting from such a breach.

OGE proposes to change the description of the categories of individuals covered by the system of records to make it more clear and easy to understand. By eliminating much of the technical description, the new language is more concise and consistent with plain language goals. No substantive change in the categories of individuals covered by the system of records is proposed. Likewise, OGE proposes to update the retention and disposal information to reflect the current General Records Schedule retention and disposal requirements for these records.

OGE proposes to modify routine uses (e.) (formerly routine use (f.)) and (g.) (formerly routine use (h.)) and remove the old routine use (b.) in accordance with OMB and Department of Justice guidance and applicable case law. The remaining routine uses have been re-designated accordingly.

Finally, the changes will update the authority for maintenance of the system, the categories of records in the system, and the administrative, technical, and physical safeguards, update the system manager and notification procedure in accordance with OGE's current organizational structure, clarify the language in the “Purpose” section, and make minor editorial changes.

Accordingly, the Office of Government Ethics is publishing the following notice of a proposed revised Governmentwide system of records covering Executive Branch Confidential Financial Disclosure Reports:

SYSTEM NAME AND NUMBER:

OGE/GOVT-2, Executive Branch Confidential Financial Disclosure Reports.

SECURITY CLASSIFICATION:

Unclassified.

SYSTEM LOCATION:

Individual agency ethics offices or other designated agency offices.

SYSTEM MANAGER(S):

These records are maintained in the department or agency where the reports are filed. For questions about a particular report, contact the Designated Agency Ethics Official (DAEO) at the department or agency concerned. For general questions about this system of records, contact the OGE Senior Agency Official for Privacy, Office of Government Ethics, Suite 500, 1201 New York Avenue NW, Washington, DC 20005-3917.

AUTHORITY FOR MAINTENANCE OF THE SYSTEM:

5 U.S.C. app. (Ethics in Government Act of 1978); E.O. 12674 (as modified by E.O. 12731); 5 CFR part 2634.

PURPOSE(S) OF THE SYSTEM:

These records are collected and maintained to meet the requirements of Executive Order 12674, as modified, 5 CFR part 2634, and agency regulations thereunder, as well as section 107 of the Ethics in Government Act of 1978, as amended, concerning the filing of confidential financial disclosure reports. Such reports are required to assure compliance with ethics laws and regulations, and to determine if an actual or apparent conflict of interest exists between the employment of individuals by the Federal Government and their outside employment and financial interests.

CATEGORIES OF INDIVIDUALS COVERED BY THE SYSTEM:

Officers and employees in the executive branch whose positions have been designated as confidential financial disclosure filing positions in accordance with 5 CFR 2634.904 and 5 U.S.C. app. 107. In addition, all executive branch special Government employees (SGE) as defined in 18 U.S.C. 202(a) and 5 CFR 2634.105(s) are required to file unless they are required to file public financial disclosure reports or their positions have been excluded from filing. The system of records includes both current and former Federal employees in these categories.

CATEGORIES OF RECORDS IN THE SYSTEM:

These records contain statements and amended statements of personal and family holdings and other interests in property; income; gifts and reimbursements; liabilities; agreements and arrangements; outside positions; and other information related to conflict of interest determinations. These statements include completed copies of the OGE Form 450 and completed copies of agency supplemental or alternative confidential report forms.

RECORD SOURCE CATEGORIES:

Information in this system of records is provided by:

a. The subject individual or by a designated person such as a trustee, attorney, accountant, banker, or relative.

b. Federal officials who review the statements to make conflict of interest determinations.

c. Persons alleging conflicts of interests or other violations of ethics laws and persons contacted during any investigation of the allegations.

ROUTINE USES OF RECORDS MAINTAINED IN THE SYSTEM, INCLUDING CATEGORIES OF USERS AND THE PURPOSES OF SUCH USES:

These confidential records and the information contained therein may be used:

a. To disclose pertinent information to the appropriate Federal, State, or local agency responsible for investigating, prosecuting, enforcing, or implementing a statute, rule, regulation, or order, where the disclosing agency becomes aware of an indication of a violation or potential violation of civil or criminal law or regulation.

b. To disclose information to any source when necessary to obtain information relevant to a conflict-of- interest investigation or determination.

c. To disclose information to the National Archives and Records Administration or the General Services Administration in records management inspections conducted under authority of 44 U.S.C. 2904 and 2906.

d. To disclose information to the Office of Management and Budget at any stage in the legislative coordination and clearance process in connection with private relief legislation as set forth in OMB Circular No. A-19.

e. To disclose information when the disclosing agency determines that that the records are arguably relevant to a proceeding before a court, grand jury, or administrative or adjudicative body; or in a proceeding before an administrative or adjudicative body when the adjudicator determines the records to be relevant to the proceeding.

f. To disclose the confidential financial disclosure report or certificate of no new interests and any accompanying documents to reviewing officials in a new office, department or agency when an employee transfers or is detailed from a covered position in one office, department or agency to a covered position in another office, department or agency.

g. To disclose information to a Member of Congress or a congressional office in response to an inquiry made on behalf of, and at the request of, an individual who is the subject of the record.

h. To disclose information to contractors, grantees, experts, consultants, detailees, and other non-Government employees performing or working on a contract, service, or other assignment for the Federal Government, when necessary to accomplish an agency function related to this system of records.

i. To disclose information to appropriate agencies, entities, and persons when: (1) The agency maintaining the records suspects or has confirmed that there has been a breach of the system of records; (2) the agency maintaining the records has determined that as a result of the suspected or confirmed breach there is a risk of harm to individuals, the agency (including its information systems, programs, and operations), the Federal Government, or national security; and (3) the disclosure made to such agencies, entities, and persons is reasonably necessary to assist in connection with the agency's efforts to respond to the suspected or confirmed breach or to prevent, minimize, or remedy such harm.

j. To disclose information to another Federal agency or Federal entity, when the agency maintaining the record determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Note: When an agency is requested to furnish records in this system of records to the Director or other authorized officials of the Office of Government Ethics (OGE), such a disclosure is to be considered as made to those officers and employees of the agency which co- maintains the records who have a need for the records in the performance of their official duties in accordance with the Ethics in Government Act of 1978, 5 U.S.C. app., and other ethics-related laws, Executive orders, and regulations conferring pertinent authority on OGE, pursuant to the provisions of the Privacy Act at 5 U.S.C. 552a(b)(1).

POLICIES AND PRACTICES FOR STORAGE OF RECORDS:

These records are maintained in paper and/or electronic form.

POLICIES AND PRACTICES FOR RETRIEVAL OF RECORDS:

These records are retrieved by the name or other programmatic identifier assigned to the individual on whom they are maintained.

POLICIES AND PRACTICES FOR RETENTION AND DISPOSAL OF RECORDS:

In accordance with the National Archives and Records Administration General Records Schedule 2.8 Employee Ethics Records, these records generally are retained for six years after filing, except when filed by or with respect to a nominee and the nominee ceases to be under consideration for the position. However, if any records are needed in an ongoing investigation, they will be retained until no longer needed in the investigation. Destruction is by shredding or electronic deletion.

ADMINISTRATIVE, TECHNICAL, AND PHYSICAL SAFEGUARDS:

With regard to OGE records, these records are located in locked file storage areas or in specified areas to which only authorized personnel have access. Electronic records are protected from unauthorized access through password identification procedures, limited access, firewalls, and other system-based protection methods. Executive branch agencies are responsible for properly safeguarding the records maintained in their systems.

RECORD ACCESS PROCEDURES:

Individuals wishing to request access to their records should contact the DAEO or designee at the agency where the reports were filed. Individuals must furnish the following information for their records to be located and identified:

a. Full name.

b. Department or agency and component with which employed or proposed to be employed.

c. Dates of employment.

d. A reasonably specific description of the record content being sought.

Individuals requesting access to records maintained at OGE must also follow OGE's Privacy Act regulations regarding verification of identity and access to records (5 CFR part 2606).

CONTESTING RECORD PROCEDURES:

Because the information in these records is updated on a periodic basis, most record corrections can be handled through established administrative procedures for updating records. However, individuals can obtain information on the procedures for contesting the records under the provisions of the Privacy Act by contacting the DAEO or designee at the agency where the reports were filed.

NOTIFICATION PROCEDURES:

Individuals wishing to inquire whether this system of records contains information about them should contact the DAEO at the department or agency concerned. For records maintained at OGE, contact the OGE Senior Agency Official for Privacy, Office of Government Ethics, Suite 500, 1201 New York Avenue NW, Washington, DC 20005-3917.

Individuals wishing to make such an inquiry must furnish the following information for their records to be located and identified:

a. Full name.

b. Department or agency and component where employed or where proposed to be employed.

c. Dates of employment.

Individuals seeking to determine if an OGE system of records contains information about them must also follow OGE's Privacy Act regulations regarding verification of identity (5 CFR part 2606).

EXEMPTIONS PROMULGATED FOR THE SYSTEM:

None.

HISTORY:

This system of records was originally published in full at 55 FR 6327 (Feb. 22, 1990) and subsequently amended by 68 FR 3097 (Jan. 22, 2003) and 68 FR 24744 (May 8, 2003).

Approved: September 4, 2019.
Emory Rounds,
Director, U.S. Office of Government Ethics.

[FR Doc. 2019-19373 Filed 9-6-19; 8:45 am]

BILLING CODE 6345-03-P